U.S.-CHINA ECONOMIC AND SECURITY REVIEW COMMISSION

Notice of Open Public Hearing

AGENCY: U.S.-China Economic and Security Review Commission.

ACTION: Notice of open public hearing—April 27, 2016, Washington, DC.

SUMMARY: Notice is hereby given of the following hearing of the U.S.-China Economic and Security Review Commission.

Name: Dennis Shea, Chairman of the U.S.-China Economic and Security Review Commission. The Commission is mandated by Congress to investigate, assess, and report to Congress annually on “the national security implications of the economic relationship between the United States and the People's Republic of China.” Pursuant to this mandate, the Commission will hold a public hearing in Washington, DC on Wednesday, April 27, 2016, on “China's 13th Five-Year Plan.”

Background: This is the fifth public hearing the Commission will hold during its 2016 report cycle. This hearing will examine China's fiscal and financial reforms, implementation of China's high-tech industrial policy in the automobile, aviation, and semiconductor sectors, efforts to improve citizens' quality of life, and the implications these reforms and policies have for U.S. economic and national security interests. The hearing will be co-chaired by Chairman Dennis Shea and Senator Carte Goodwin. Any interested party may file a written statement by April 27, 2016, by mailing to the contact below. A portion of each panel will include a question and answer period between the Commissioners and the witnesses.

Location, Date and Time: Room: TBD. Wednesday, April 27, 2016, start time is 9:00 a.m. A detailed agenda for the hearing will be posted to the Commission's Web site at www.uscc.gov. Also, please check our Web site for possible changes to the hearing schedule. Reservations are not required to attend the hearing.

FOR FURTHER INFORMATION CONTACT: Any member of the public seeking further information concerning the hearing should contact Anthony DeMarino, 444 North Capitol Street NW., Suite 602, Washington DC 20001; phone: 202-624-1496, or via email at ademarino@uscc.gov. Reservations are not required to attend the hearing.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: April 11, 2016.
Michael Danis,
Executive Director, U.S.-China Economic and Security Review Commission.

[FR Doc. 2016-08701 Filed 4-14-16; 8:45 am]

BILLING CODE 1137-00-P